DEPARTMENT OF TRANSPORTATION

Federal Aviation Administration

[Summary Notice No. PE-2001-42]

Petitions for Exemption; Summary of Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC, on May 31, 2001.
Donald P. Byrne,
Assistant Chief Counsel for Regulations.

Dispositions of Petitions

Docket No.: FAA-2001-8805.

Petitioner: Executive Jet Sales, Inc.

Section of 14 CFR Affected: 14 CFR 145.45(f).

Description of Relief Sought/Disposition: To permit EJS to place and maintain its inspection procedures manual (IPM) in a number of fixed locations within its repair station facility rather than giving a copy of its IPM to each of its supervisory and inspection personnel. Grant, 05/04/2001, Exemption No. 7530.

Docket No.: FAA-2001-8811 (previously Docket No. 28884).

Petitioner: Aero Sky.

Section of 14 CFR Affected: 14 CFR 145.37(b).

Description of Relief Sought/Disposition: To permit Aero Sky to continue to hold an FAA repair station certificate (certificate No. KQ7R556N) without having suitable permanent housing facilities for at least one of the heaviest aircraft within the weight class of the rating it holds. Grant, 05/10/2001, Exemption No. 6673B.

Docket No.: FAA-2001-8750 (previously Docket No. 27429).

Petitioner: Community College of the Air Force.

Section of 14 CFR Affected: 14 CFR 147.31(c)(2)(iii).

Description of Relief Sought/Disposition: To permit U.S. Air Force aviation maintenance technicians who have completed military aviation maintenance training courses to be evaluated using the same criteria that is used for the civilian sector. Grant, 05/03/2001, Exemption No. 6094C.

[FR Doc. 01-14110 Filed 6-4-01; 8:45 am]

BILLING CODE 4910-13-M